DEPARTMENT OF ENERGY

Federal Energy Regulatory Commission

[Project No. 405-090; Project No. 1881-056]

Exelon Generation Company, LLC; PPL Holtwood, LLC; Notice of Application for Amendment of License and Soliciting Comments, Motions To Intervene, and Protests

January 19, 2010.

Take notice that the following hydroelectric application has been filed with the Commission and is available for public inspection:

a. Application Type: Amendment of License.

b. Project Nos.: 405-090 and 1881-056.

c. Date Filed: July 16, 2009 for P-405-090 and October 28, 2009 for P-1881-056.

d. Applicant: Exelon Generation Company, LLC (Exelon), of Harford and Cecil counties in, MD and PPL Holtwood, LLC (PPL), of Lancaster and York Counties, PA.

e. Name of Project: Conowingo Project (P-405) and Holtwood Project (P-1881).

f. Location: The two projects are located on the Susquehanna River in Lancaster and York Counties, PA and Harford and Cecil Counties, MD.

g. Filed Pursuant to: Federal Power Act, 16 U.S.C. 791a-825r.

h. Applicant Contact: A. Karen Hill, Vice President, Exelon Corporation, 101 Constitution Ave., NW., Washington, DC 20001; telephone (202) 347-8092. Dennis J. Murphy, Vice President & Chief Operating Officer, PPL Holtwood, LLC, Two North Ninth Street (GENPL6), Allentown, Pennsylvania 18101; telephone (610) 774-4316.

i. FERC Contact: Anthony DeLuca, telephone (202) 502-6632, and e-mail address Anthony.deluca@ferc.gov.

j. Deadline for filing comments, motions to intervene, and protests: February 19, 2010. 30 days from the issuance of this notice.

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the projects numbers (P-405-090 and P-1881-056) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Amendment to Projects' Boundaries: (1) Exelon and PPL propose removing areas within their projects' boundaries that unnecessarily overlap. (2) Exelon requests removing other lands from its Conowingo project boundary that serve no project purpose and adding a shoreline buffer strip and a small area inundated by Conowingo Pond.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-1394 Filed 1-25-10; 8:45 am]

BILLING CODE 6717-01-P